DEPARTMENT OF THE INTERIOR

Fish and Wildlife Service

[FWS-R2-ES-2025-N017; FXES11130200000-256-FF02ENEH00]

Endangered Wildlife and Plants; Recovery Permit Applications

AGENCY: Fish and Wildlife Service, Interior.

ACTION: Notice of receipt of permit applications; request for comments.

SUMMARY: We, the U.S. Fish and Wildlife Service, invite the public to comment on the following applications for a permit to conduct scientific research to promote conservation or other activities intended to recover and enhance endangered species survival. With some exceptions, the Endangered Species Act (ESA) prohibits certain activities that may impact endangered species, unless a Federal permit allows such activity. The ESA also requires that we invite public comment before issuing these permits.

DATES: To ensure consideration, please submit your written comments by July 28, 2025.

ADDRESSES: Document availability: Request documents from the contact in the FOR FURTHER INFORMATION CONTACT section.

Comment submission: Submit comments by email to fw2_te_permits@fws.gov. Please specify the permit application you are interested in by number (e.g., Permit Record No. PER1234567).

FOR FURTHER INFORMATION CONTACT: Katie Boyer, Acting Supervisor, Environmental Review Division, by phone at 505-621-9058, or via email at katie_boyer@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

With some exceptions, the Endangered Species Act of 1973, as amended (ESA; 16 U.S.C. 1531 et seq.), prohibits activities that constitute take of listed species unless a Federal permit is issued that allows such activity. The ESA's definition of “take” includes hunting, shooting, harming, wounding, or killing, and also such activities as pursuing, harassing, trapping, capturing, or collecting.

The ESA and our implementing regulations in the Code of Federal Regulations (CFR) at title 50, part 17, provide for issuing such permits and require that we invite public comment before issuing permits for activities involving listed species.

A recovery permit we issue under the ESA, section 10(a)(1)(A), authorizes the permittee to conduct activities with endangered or threatened species for scientific purposes that promote recovery or enhance the species' propagation or survival. These activities often include such prohibited actions as capture and collection. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Documents and other information submitted with these applications are available for review by any party who submits a request as specified in ADDRESSES. Our release of documents is subject to Privacy Act (5 U.S.C. 552a) and Freedom of Information Act (5 U.S.C. 552) requirements.

Proposed activities in the following permit requests are for the recovery and enhancement of propagation or survival of the species in the wild. We invite local, State, Tribal, and Federal agencies and the public to submit written data, views, or arguments with respect to these applications. The comments and recommendations that will be most useful and likely to influence agency decisions are those supported by quantitative information or studies. Please refer to the permit record number when submitting comments.

Permit record No. | Applicant | Species | Location | Activity | Type of take | Permit action
PER15016299 | University of Texas El Paso; El Paso, Texas | Rio Grande silvery minnow (Hybognathus amarus) | Texas | Capture, handle | Harass, harm, capture | New.
PER18562155 | Environmental Consultants of Habitats and Organisms, LLC.; Tahlequah, Oklahoma | Gray bat (Myotis grisescens), Indiana bat (Myotis sodalis), northern long-eared bat (Myotis septentrionalis), and Ozark big-eared bat (Corynorhinus (=Plecotus) townsendii ingens) | Arkansas, Oklahoma, Texas | Presence/absence surveys, bio-sample, handle | Harass, harm, trap, capture | Renew/amend.
PER18338895 | Nowak, Erika; Flagstaff, Arizona | Razorback sucker (Xyrauchen texanus), Colorado pikeminnow (Ptychocheilus lucius), spikedace (Meda fulgida), and loach minnow (Tiaroga cobitis) | Arizona, New Mexico | Presence/absence surveys, handle, bio-monitor, salvage, translocate | Harass, harm, trap, capture | Renew/amend.
PER11343588 | University of Nevada Las Vegas; Las Vegas, Nevada | Sentry milk-vetch (Astragalus cremnophylax var. cremnophylax) | Arizona | Collect, repatriate | Collect | New.
PER20066327 | Parnell Engineering; Cedar Park, Texas | Ocelot (Leopardus (=Felis) pardalis) and golden-cheeked warbler (Setophaga chrysoparia) | Texas | Presence/absence surveys | Harass, harm | New.
PER11111430 | Walkup, Danielle; College Station, Texas | Dunes sagebrush lizard (Sceloporus arenicolus) | Texas | Presence/absence surveys, pitfall trapping | Harass, harm, trap, capture | New.
PER12293920 | Gabler Lab at UTRGV; Brownsville, Texas | South Texas ambrosia (Ambrosia cheiranthifolia), prostrate milkweed (Asclepias prostrata), star cactus (Astrophytum asterias), Texas ayenia (Ayenia limitaris), Zapata bladderpod (Physaria thamnophila), ashy dogweed (Thymophylla tephroleuca), and Walker's manioc (Manihot walkerae) | Texas | Collect, propagate, repatriate | Collect | New.
PER17693699 | Arizona Center for Nature Conservation; Phoenix, Arizona | Black-footed ferret (Mustela nigripes), Mount Graham red squirrel (Tamiasciurus fremonti grahamensis), California condor (Gymnogyps californianus), three forks springsnail (Pyrgulopsis trivialis), Mexican wolf (Canis lupus baileyi), thick-billed parrot (Rhynchopsitta pachyrhyncha), Gila topminnow (Poeciliopsis occidentalis), and desert pupfish (Cyprinodon macularius) | Arizona | Educational display, captively propagate, husbandry, capture, handle, rehabilitate | Harass, harm, trap, capture, collect | Renew/amend.
PER12087672 | Freese and Nichols, Inc.; Austin, Texas | Texas hornshell (Popenaias popeii), Guadalupe fatmucket (Lampsilis bergmanni), Guadalupe orb (Cyclonaias necki), Texas pimpleback (Cyclonaias petrina), false spike (Fusconaia mitchelli), Texas fatmucket (Lampsilis bracteate), Texas fawnsfoot (Truncilla macrodon), and Balcones spike (Fusconaia iheringi) | Texas | Presence/absence surveys, capture, handle, tag, translocate | Harass, harm, trap, capture | New.
PER19886034 | Whitney, James; Pittsburg, Kansas | Spikedace (Meda fulgidaa) and loach minnow (Tiaroga cobitis) | Arizona, New Mexico | Presence/absence surveys, monitor, capture, handle | Harass, harm, capture | New.
PER20066681 | Bureau of Land Management—Farmington; Farmington, New Mexico | Southwestern willow flycatcher (Empidonax traillii extimus), Jemez Mountains salamander (Plethodon neomexicanus), Dunes sagebrush lizard (Sceloporus arenicolus) | New Mexico | Presence/absence surveys | Harass, harm | New.
PER14405921 | Transition Zone Horticultural Institute Inc.; Flagstaff, Arizona | Peebles Navajo cactus (Pediocactus peeblesianus ssp. peeblesianus), Holy Ghost ipomopsis (Ipomopsis sancti-spiritus), Todsen's pennyroyal (Hedeoma todsenii), Arizona Cliffrose (Purshia (=Cowania) subintegra), autumn buttercup (Ranunculus aestivalis (=acriformis)), Brady pincushion cactus (Pediocactus bradyi), sentry milk-vetch (Astragalus cremnophylax var. cremnophylax), and Wright fishhook cactus (Sclerocactus wrightiae) | Arizona, New Mexico, Utah | Collect | Collect | Renew.
PER20067105 | Texas Parks and Wildlife Department; Austin, Texas | All federally listed plant and wildlife species occurring within Texas | Texas | All activities in furtherance of the Texas Parks and Wildlife Department's mission to conserve endangered wildlife and plants and the ecosystems upon which they depend | Harass, harm, pursue, hunt, shoot, wound, kill, trap, capture, collect | Renew/amend.
PER14922372 | Bandelier National Monument; Los Alamos, New Mexico | Southwestern willow flycatcher (Empidonax traillii extimus) | New Mexico | Presence/absence surveys | Harass, harm | Amend.
PER14400664 | Trent, Ricky; Norman, Oklahoma | Northern long-eared bat (Myotis septentrionalis), Indiana bat (Myotis sodalis), and gray bat (Myotis grisescens) | Oklahoma | Presence/absence surveys, capture, handle | Harass, harm, capture, trap | New.
PER14681614 | U.S. Forest Service, Apache-Sitgreaves National Forest; Springerville, Arizona | Southwestern willow flycatcher (Empidonax traillii extimus) | Arizona | Presence/absence surveys | Harass, harm | Amend.
PER17693181 | Wolsiefer, Alec; Denver, Colorado | Southwestern willow flycatcher (Empidonax traillii extimus) | Arizona, California, Colorado, New Mexico, Nevada, Utah | Presence/absence surveys | Harass, harm | Amend.
PER14914423 | Acevedo, Cody; Round Rock, Texas | Dunes sagebrush lizard (Sceloporus arenicolus) | Texas | Presence/absence surveys | Harass, harm | New.
PER16173314 | Putnam, Stephanie; Austin, Texas | Golden-cheeked warbler (Setophaga chrysoparia) | Texas | Presence/absence surveys | Harass, harm | Renew.
PER14724803 | Arroyo-Torres, Irvin; Rio Rancho, New Mexico | Gila topminnow (Poeciliopsis occidentalis), loach minnow (Tiaroga cobitis), and spikedace (Meda fulgida) | Arizona, New Mexico | Capture, handle | Harass, harm, capture, trap | New.
PER17693180 | Hoeinghaus, David; Denton, Texas | Smalleye Shiner (Notropis buccula) and Sharpnose Shiner (Notropis oxyrhynchus) | Texas | Capture, handle, tag | Harass, harm, capture | New.
PER15015263 | Lassiter, Timothy; Boerne, Texas | Golden-cheeked warbler (Setophaga chrysoparia) | Texas | Presence/absence surveys | Harass, harm | Renew.
PER19283323 | Audubon Arizona; Phoenix, Arizona | Southwestern willow flycatcher (Empidonax traillii extimus) | Arizona, New Mexico | Presence/absence surveys | Harass, harm | Renew/amend.
PER15530641 | Whitenton Group, Inc.; San Marcos, Texas | Gulf Coast jaguarundi (Puma yagouaroundi cacomitli), ocelot (Leopardus (=Felis) pardalis), northern aplomado falcon (Falco femoralis septentrionalis), Barton Springs salamander (Eurycea sosorum), Austin blind salamander (Eurycea waterlooensis), Texas blind salamander (Eurycea rathbuni), Houston toad (Bufo houstonensis), and fountain darter (Etheostoma fonticola) | Texas | Presence/absence surveys, harry, herd, capture, handle, voucher specimens | Harass, harm, capture, trap, kill | Renew.
PER15617375 | Coyle, Julia; San Antonio, Texas | Golden-cheeked warbler (Setophaga chrysoparia) | Texas | Presence/absence surveys | Harass, harm | New.
PER16261670 | Christman, Bruce; Silver City, New Mexico | Jemez Mountains salamander (Plethodon neomexicanus) | New Mexico | Presence/absence surveys, capture, handle, bio-sample | Harass, harm, capture, wound | Renew/amend.
PER17693139 | Randklev, Charles; Dallas, Texas | False spike (Fusconaia mitchelli), Guadalupe fatmucket (Lampsilis bergmanni), Guadalupe orb (Cyclonaias necki), Ouachita rock pocketbook (Arcidens wheeleri), Texas fatmucket (Lampsilis bracteata), Texas pimpleback (Cyclonaias petrina), and Balcones spike (Fusconaia iheringi) | Arkansas, Oklahoma, Texas | Presence/absence surveys, mark-recapture surveys, tag, capture, handle | Harass, harm, capture | Amend.
PER18704025 | USGS—Idaho Cooperative Fish & Wildlife Research Unit; Moscow, Idaho | Yuma Ridgway's rail (Rallus obsoletus yumanensis), light-footed Ridgway's rail (Rallus obsoletus levipes), and California Ridgway's rail (Rallus obsoletus obsoletus) | Arizona, California, Nevada | Presence/absence surveys, capture, handle, band, tag, bio-sample, collect feathers, collect egg shells, collect non-viable eggs, monitor | Harass, harm, capture | Renew/amend.
PER17548500 | Gillespie, Kyle; San Antonio, Texas | Helotes mold beetle (Batrisodes venyivi), Coffin Cave mold beetle (Batrisodes texanus), Robber Baron Cave meshweaver (Cicurina baronia), Madla Cave meshweaver (Cicurina madla), Government Canyon Bat Cave meshweaver (Cicurina vespera), beetle (Rhadine exilis), beetle (Rhadine infernalis), Tooth Cave ground beetle (Rhadine Persephone), Tooth Cave pseudoscorpion (Tartarocreagris texana), Government Canyon Bat Cave spider (Tayshaneta microps), Tooth Cave spider (Tayshaneta myopica), Kretschmarr Cave mold beetle (Texamaurops reddelli), Cokendolpher cave harvestman (Texella cokendolpheri), Bee Creek Cave harvestman (Texella reddelli), and Bone Cave harvestman (Texella reyesi) | Texas | Presence/absence surveys | Harass, harm | New.
PER17795681 | Bell, Leslie; Austin, Texas | Helotes mold beetle (Batrisodes venyivi), Coffin Cave mold beetle (Batrisodes texanus), Robber Baron Cave meshweaver (Cicurina baronia), Madla Cave meshweaver (Cicurina madla), Government Canyon Bat Cave meshweaver (Cicurina vespera), beetle (Rhadine exilis), beetle (Rhadine infernalis), Tooth Cave ground beetle (Rhadine Persephone), Tooth Cave pseudoscorpion (Tartarocreagris texana), Government Canyon Bat Cave spider (Tayshaneta microps), Tooth Cave spider (Tayshaneta myopica), Kretschmarr Cave mold beetle (Texamaurops reddelli), Cokendolpher cave harvestman (Texella cokendolpheri), Bee Creek Cave harvestman (Texella reddelli), Bone Cave harvestman (Texella reyesi), Barton Springs salamander (Eurycea sosorum), Austin blind salamander (Eurycea waterlooensis), Texas blind salamander (Eurycea rathbuni), Comal Springs dryopid beetle (Stygoparnus comalensis), Comal Springs riffle beetle (Heterelmis comalensis), and Peck's cave amphipod (Stygobromus (=Stygonectes) pecki) | Texas | Presence/absence surveys, collection, voucher specimens | Harass, harm, collect, kill | Renew/amend.
PER17693138 | Clarke, Kasey; San Antonio, Texas | Golden-cheeked warbler (Setophaga chrysoparia) | Texas | Presence/absence surveys | Harass, harm | New.
PER17791178 | Pueblo of Santa Ana; Santa Ana Pueblo, New Mexico | Southwestern willow flycatcher (Empidonax traillii extimus) | New Mexico | Presence/absence surveys, nest monitoring | Harass, harm | Renew/amend.
PER19973999 | Grand Canyon National Park; Flagstaff, Arizona | California condor (Gymnogyps californianus), southwestern willow flycatcher (Empidonax traillii extimus), Yuma Ridgway's rail (Rallus obsoletus yumanensis), razorback sucker (Xyrauchen texanus), Colorado pikeminnow (Ptychocheilus lucius), and sentry milk-vetch (Astragalus cremnophylax var. cremnophylax) | Arizona | Haze, collect feathers, presence/absence surveys, nest monitoring, capture, handle, bio-sample, collect, voucher specimens, translocate, re-introduction, transport, monitor | Harass, harm, capture, collect, wound | Renew/amend.
PER18519208 | Texas A&M University—Galveston; Galveston, Texas | Kemp's ridley sea turtle (Lepidochelys kempii), green sea turtle (Chelonia mydas), loggerhead sea turtle (Caretta caretta), hawksbill sea turtle (Eretmochelys imbricata), and leatherback sea turtle (Dermochelys coriacea) | Texas | Collect, capture, handle, remove from the wild, rehabilitate, release to the wild, educational display, tag, bio-sample, transport, nest detection, collect eggs | Harass, harm, capture | Renew.
PER19285096 | Chambers, Carol; Flagstaff, Arizona | New Mexico meadow jumping mouse (Zapus hudsonius luteus) | Arizona, Colorado, New Mexico | Presence/absence surveys, capture, handle, track plating, tag, bio-sample, translocate | Harass, harm, capture | Renew.
PER19451257 | Moczygemba, Kevin; San Antonio, Texas | Golden-cheeked warbler (Setophaga chrysoparia) | Texas | Presence/absence surveys | Harass, harm | Renew.
PER19448652 | Ecosphere Environmental Services; Durango, Colorado | Black-footed ferret (Mustela nigripes), southwestern willow flycatcher (Empidonax traillii extimus), and Jemez Mountains salamander (Plethodon neomexicanus) | Arizona, Colorado, New Mexico, Texas, Utah | Spotlight surveys, presence/absence surveys, nest monitoring, capture, handle, bio-sample | Harass, harm, capture | Renew.
PER20171321 | U.S. Fish and Wildlife Service, Region 2 | All federally listed plant and wildlife species occurring within the Southwest Region | Arizona, New Mexico, Oklahoma, Texas | All activities in furtherance of the U.S. Fish and Wildlife Service's mission to conserve endangered wildlife and plants and the ecosystems upon which they depend | Harass, harm, pursue, hunt, shoot, wound, kill, trap, capture, collect | Renew/amend.
PER20000677 | Hill, Michael; Albuquerque, New Mexico | Dunes sagebrush lizard (Sceloporus arenicolus) | New Mexico | Presence/absence surveys, occupancy surveys, capture, handle, bio-sample, salvage | Harass, harm, capture, wound | New.

Public Availability of Comments

All comments we receive become part of the public record associated with this action. Requests for copies of comments will be handled in accordance with the Freedom of Information Act, National Environmental Policy Act, and Service and Department of the Interior policies and procedures. Before including your address, phone number, email address, or other personal identifying information in your comment, you should be aware that your entire comment—including your personal identifying information—may be made publicly available at any time. While you can ask us to withhold your personal identifying information from public review, we cannot guarantee that we will be able to do so. All submissions from organizations or businesses, and from individuals identifying themselves as representatives or officials of organizations or businesses, will be made available for public disclosure in their entirety.

Authority

We provide this notice under section 10 of the Endangered Species Act (16 U.S.C. 1531 et seq.).

Leston Jacks,
Acting Regional Director, Southwest Region, U.S. Fish and Wildlife Service.

[FR Doc. 2025-11745 Filed 6-25-25; 8:45 am]

BILLING CODE 4333-15-P